DEPARTMENT OF AGRICULTURE

Forest Service

Deschutes and Ochoco National Forests Resource Advisory Committee

AGENCY: Forest Service, USDA.

ACTION: Notice of meeting.

SUMMARY: The Deschutes and Ochoco National Forests Resource Advisory Committee will meet in Redmond, Oregon. The purpose of the meeting is to receive natural resource projects that will be reviewed and recommended at a later meeting, discuss the Committee's project guidelines and decision-making priorities, review bylaws, elect a Chair, and discuss reports related to the work of the Committee under Title II of the Secure Rural Schools and Community Self-Determination Act of 2000.

DATES: The meeting will be held May 11, 2004 from 9 a.m. to 12 p.m.

ADDRESSES: The meeting will be held at the office of the Central Oregon Intergovernmental Council, 2363 SW Glacier Place, Redmond, Oregon 97756. Send written comments to Leslie Weldon, Designated Federal Official for the Deschutes and Ochoco Resource Advisory Committee, c/o Forest Service, USDA, Deschutes National Forest, 1645 Highway 20 East, Bend, OR 97701 or electronically to lweldon@fs.fed.us.

FOR FURTHER INFORMATION CONTACT: Leslie Weldon, Designated Federal Official, Deschutes National Forest, 541-383-5562.

SUPPLEMENTARY INFORMATION: The meeting is open to the public. Committee discussion is limited to Forest Service staff and Committee members. However, persons who wish to bring Title II matters to the attention to the Committee may file written statements with the Committee staff before or after the meeting. A public input session will be provided and individuals who made written requests by May 4 will have the opportunity to address the Committee at the session.

Dated: March 30, 2004.
Leslie A.C. Weldon,
Forest Supervisor, Deschutes National Forest.

[FR Doc. 04-7704 Filed 4-5-04; 8:45 am]

BILLING CODE 3410-11-M